DEPARTMENT OF LABOR

Mine Safety and Health Administration

Petitions for Modification

The following parties have filed petitions to modify the application of existing safety standards under section 101(c) of the Federal Mine Safety and Health Act of 1977.

1. Blue Mountain Energy, Inc.

[Docket No. M-2000-095-C]

Blue Mountain Energy, Inc., 3607 County Road, #65, Rangely, Colorado 81648 has filed a petition to modify the application of 30 CFR 75.1902(c)(2)(i), (ii), and (iii)(underground diesel fuel storage-general requirements) to its Deserado Mine (I.D. No. 05-03505) located in Rio Blanco County, Colorado. The petitioner requests a modification of the existing standard as it pertains to temporary underground diesel fuel storage area location. The petitioner proposes to: (i) Store the temporary diesel transportation unit no more than 5 cross-cuts from the loading point and/or protected loading point during equipment installation, and the last loading point during equipment removal; (ii) equip the diesel fuel transportation unit with an automatic fire suppression device according to 30 CFR 75.1911; and (iii) physically examine the diesel fuel transportation unit twice each shift when work is being performed inby the diesel storage area. The petitioner asserts that the proposed alternative method would provide at least the same measure of protection as the existing standard.

2. Plateau Mining Corporation

[Docket No. M-2000-096-C]

Plateau Mining Corporation, One Oxford Centre, 301 Grant Street, 20th Floor, Pittsburgh, Pennsylvania 15219 has filed a petition to modify the application of 30 CFR 75.1909(a)(1) (nonpermissible diesel-powered equipment; design and performance requirements) to its Willow Creek Mine (I.D. No. 42-02113) located in Carbon County, Utah. The petitioner requests a modification of the existing standard to permit the use of 3304 PCT diesel engines at its mine and affiliated mine to haul equipment and supplies and for travel through the mines. The petitioner states that the 3304 PCT diesel engines have been tested according to the requirements of 30 CFR Part 7 and the testing has indicated that the use of these engines meet the requirements of MSHA's testing protocol. The petitioner asserts that the proposed alternative method would provide at least the same measure of protection as the existing standard.

3. Twentymile Coal Company

[Docket No. M-2000-097-C]

Twentymile Coal Company, One Oxford Centre, 301 Grant Street, 20th Floor, Pittsburgh, Pennsylvania 15219 has filed a petition to modify the application of 30 CFR 75.1909(a)(1) (nonpermissible diesel-powered equipment; design and performance requirements) to its Foidel Creek Mine (I.D. No. 05-03836) located in Routt County, Colorado. The petitioner requests a modification of the existing standard to permit the use of 3304 PCT diesel engines at its mine and affiliated mine to haul equipment and supplies and for travel through the mines. The petitioner states that the 3304 PCT diesel engines have been tested according to the requirements of 30 CFR Part 7 and the testing has indicated that the use of these engines meet the requirements of MSHA's testing protocol. The petitioner asserts that the proposed alternative method would provide at least the same measure of protection as the existing standard.

4. Black Beauty Coal Company

[Docket No. M-2000-098-C]

Black Beauty Coal Company, P.O. Box 312, Evansville, Indiana 47702-0312 has filed a petition to modify the application of 30 CFR 75.350 (air courses and belt haulage entries) to its Air Quality #1 Mine (I.D. No. 12-02010) located in Knox County, Indiana. The petitioner proposes to use the intake air off the belt and neutral entries to ventilate working sections. The petitioner states that a carbon monoxide monitoring system already in place is maintained along the belt haulage entries. The petitioner asserts that mine personnel working at the sections would not be adversely affected, that intake air from the belt haulage entries would improve ventilation at the working sections, and that the ability to meet the regulatory volume and control requirements at each working section would be enhanced by the approval of this modification.

5. San Juan Coal Company

[Docket No. M-2000-099-C]

San Juan Coal Company, P.O. Box 561, Waterflow, New Mexico 87421 has filed a petition to modify the application of 30 CFR 75.500(d) (permissible electric equipment) to its San Juan South Mine (I.D. No. 29-02170) and San Juan Deep Mine (I.D. No. 29-02201) located in San Juan County, New Mexico. The petitioner proposes to use the following nonpermissible low-voltage or battery powered electronic testing and diagnostic equipment inby the last open crosscut: lap top computers, oscilloscopes, vibration analysis machines, cable fault detectors, point temperature probes, infrared temperature devices, insulation testers (meggers), voltage, current, and power measurements devices, signal analyzer devices, ultrasonic thickness gauges, electronic component testers, electronic tachometers, and may use other testing and diagnostic equipment if approved by the District Office. The petitioner states that all other test and diagnostic equipment use in or inby the last open crosscut will be permissible. The petitioner has listed in this petition for modification specific procedures that would be followed when using this equipment. The petitioner asserts that the proposed alternative method would provide at least the same measure of protection as the existing standard.

6. Black Beauty Coal Company

[Docket No. M-2000-100-C]

Black Beauty Coal Company, 6641 State Road 46, Terre Haute, Indiana 47802 has filed a petition to modify the application of 30 CFR 75.350 (air courses and belt haulage entries) to its Vermilion Grove Mine (I.D. No. 11-03060) located in Vermilion County, Illinois. The petitioner proposes to use the intake air off the belt and neutral entries to ventilate working sections. The petitioner states that a carbon monoxide monitoring system already in place is maintained along the belt haulage entries. The petitioner asserts that mine personnel working at the sections would not be adversely affected, that the use of intake air from the belt haulage entries would improve ventilation at the workings sections, and that the ability to meet the regulatory volume and control requirements at each working section would be enhanced by the approval of this modification.

7. Genwal Resources, Inc.

[Docket No. M-2000-101-C]

Genwal Resources, Inc., P.O. Box 1420, Huntington, Utah 84528 has filed a petition to modify the application of 30 CFR 75.701 (grounding metallic frames, casings, and other enclosures of electric equipment) to its Crandall Canyon Mine (I.D. No. 42-01715) located in Emery County, Utah. The petitioner requests a modification of the existing standard to permit an alternative method for grounding of a diesel generator. The petitioner proposes to use a 480 volt, wye connected, 320 KW portable diesel powered generator for utility power and to move electrically powered mining equipment in and around the mine. The petitioner asserts that the proposed alternative method would provide at least the same measure of protection as the existing standard.

8. Genwal Resources, Inc.

[Docket No. M-2000-102-C]

Genwal Resources, Inc., P.O. Box 1420, Huntington, Utah 84528 has filed a petition to modify the application of 30 CFR 75.901 (protection of low-and medium-voltage three-phase circuits used underground) to its Crandall Canyon Mine (I.D. No. 42-01715) located in Emery County, Utah. The petitioner requests a modification of the existing standard to permit an alternative method for grounding of a diesel generator. The petitioner proposes to use a 480 volt, wye connected, 320 KW portable diesel powered generator for utility power and to move electrically powered mining equipment in and around the mine. The petitioner asserts that the proposed alternative method would provide at least the same measure of protection as the existing standard.

9. West Ridge Resources, Inc.

[Docket No. M-2000-103-C]

West Ridge Resources, Inc., P.O. Box 1420, Huntington, Utah 84528 has filed a petition to modify the application of 30 CFR 75.701 (grounding metallic frames, casings, and other enclosures of electric equipment) to its West Ridge Mine (I.D. No. 42-02233) located in Carbon County, Utah. The petitioner requests a modification of the existing standard to permit an alternative method for grounding of a diesel generator. The petitioner proposes to use a 480 volt, wye connected, 320 KW portable diesel powered generator for utility power and to move electrically powered mining equipment in and around the mine. The petitioner asserts that the proposed alternative method would provide at least the same measure of protection as the existing standard.

10. West Ridge Resources, Inc.

[Docket No. M-2000-104-C]

West Ridge Resources, Inc., P.O. Box 1420, Huntington, Utah 84528 has filed a petition to modify the application of 30 CFR 75.901 (protection of low-and medium-voltage three-phase circuits used underground) to its West Ridge Mine (I.D. No. 42-02233) located in Carbon County, Utah. The petitioner requests a modification of the existing standard to permit an alternative method for grounding of a diesel generator. The petitioner proposes to use a 480 volt, wye connected, 320 KW portable diesel powered generator for utility power and to move electrically powered mining equipment in and around the mine. The petitioner asserts that the proposed alternative method would provide at least the same measure of protection as the existing standard.

11. Gibson County Coal, LLC

[Docket No. M-2000-105-C]

Gibson County Coal, LLC, P.O. Box 1269, Princeton, Indiana 47670 has filed a petition to modify the application of 30 CFR 75.1700 (oil and gas wells) to its Gibson Mine (I.D. No. 12-02215) located in Gibson County, Indiana. The petitioner proposes to plug and mine through oil and gas wells using the specific procedures outlined in this petition for modification. The petitioner asserts that the proposed alternative method would provide at least the same measure of protection as the existing standard.

12. San Juan Coal Company

[Docket No. M-2000-106-C]

San Juan Coal Company, P.O. Box 561, Waterflow, New Mexico 87421 has filed a petition to modify the application of 30 CFR 75.1700 (oil and gas wells) to its San Juan South Mine (I.D. No. 29-02170) and its San Juan Deep Mine (I.D. No. 29-02201) located in San Juan County, New Mexico. The petitioner requests a modification of the existing standard to permit mining within a 300 foot diameter of abandoned oil and gas wells. The petitioner proposes to plug and mine through oil and gas wells using the specific procedures outlined in this petition for modification. The petitioner asserts that the proposed alternative method would provide at least the same measure of protection as the existing standard.

13. Sidney Coal Company, Inc.

[Docket No. M-2000-107-C]

Sidney Coal Company, Inc., P.O. Box 299, Sidney, Kentucky 41564 has filed a petition to modify the application of 30 CFR 75.1700 (oil and gas wells) to its Rockhouse Energy Mining Company Mine No. 1 (I.D. No. 15-17651) located in Pike County, Kentucky. The petitioner proposes to plug and mine through oil and gas wells using the specific procedures outlined in this petition for modification. The petitioner asserts that the proposed alternative method would provide at least the same measure of protection as the existing standard.

14. San Juan Coal Company

[Docket No. M-2000-108-C]

San Juan Coal Company, P.O. Box 561, Waterflow, New Mexico 87421 has filed a petition to modify the application of 30 CFR 75.1002-1(a) (location of other electric equipment; requirements for permissibility) to its San Juan South Mine (I.D. No. 29-02170) and its San Juan Deep Mine (I.D. No. 29-02201) located in San Juan County, New Mexico. The petitioner proposes to use the following nonpermissible low-voltage or battery powered electronic testing and diagnostic equipment inby the last open crosscut: lap top computers, oscilloscopes, vibration analysis machines, cable fault detectors, point temperature probes, infrared temperature devices, insulation testers (meggers), voltage, current, and power measurements devices, signal analyzer devices, ultrasonic thickness gauges, electronic component testers, electronic tachometers, and may use other testing and diagnostic equipment if approved by the District Office. The petitioner states that all other test and diagnostic equipment used in or inby the last open crosscut will be permissible. The petitioner asserts that the proposed alternative method would provide at least the same measure of protection as the existing standard.

15. The American Coal Company

[Docket No. M-2000-109-C]

The American Coal Company, P.O. Box 727, Harrisburg, Illinois 62946 has filed a petition to modify the application of 30 CFR 75.900 (low- and medium-voltage circuits serving three-phase alternating current equipment; circuit breakers) to its Galatia Mine (I.D. No. 11-02752) located in Saline County, Illinois. The petitioner requests a modification of the existing standard to allow the use of a combination of suitable sized fuses or non-undervoltage release circuit breaker contactor, ground fault device, and three phase undervoltage relay, serving a three-phase low- or medium-voltage alternating current circuit. The petitioner asserts that the proposed alternative method would provide at least the same measure of protection as the existing standard.

16. Gibson County Coal, LLC

[Docket No. M-2000-110-C]

Gibson County Coal, LLC, P.O. Box 1269, Princeton, Indiana 47670 has filed a petition to modify the application of 30 CFR 75.350 (air courses and belt haulage entries) to its Gibson Mine (I.D. No. 12-02215) located in Gibson County, Indiana. The petitioner proposes to use belt haulage entries as intake air courses to ventilate active working places. The petitioner proposes to use a low-level carbon monoxide detection system to monitor all belt haulage entries and have a visual or audible alarm signal in place to detect any emergency conditions, and if an emergency condition exists, a qualified person would be dispatched immediately to the affected area to determine the reason for the alarm and appropriate action would be taken to safeguard the persons underground. Petitioner asserts that the proposed alternative method would provide at least the same measure of protection as would the existing standard.

17. Plateau Mining Corporation

[Docket No. M-2000-111-C]

Plateau Mining Corporation, One Oxford Centre, 301 Grant Street, 20th Floor, Pittsburgh, Pennsylvania 15219-1410 has filed a petition to modify the application of 30 CFR 75.901(a) (protection of low- and medium-voltage three-phase circuits used underground) to its Willow Creek Mine (I.D. No. 42-02113) located in Carbon County, Utah. The petitioner proposes to use an alternative method of compliance to ground the portable diesel generator to a low ground field. The petitioner proposes to incorporate a ground fault system for the power circuits that would de-energize mining equipment such as continuous miners, roof bolters, and longwall equipment when being transported throughout the mine, if a phase to frame fault occurs. The petitioner asserts that the proposed alternative method would provide at least the same measure of protection as the existing standard.

18. Plateau Mining Corporation

[Docket No. M-2000-112-C]

Plateau Mining Corporation, One Oxford Centre, 301 Grant Street, 20th Floor, Pittsburgh, Pennsylvania 15219-1410 has filed a petition to modify the application of 30 CFR 75.701 (grounding metallic frames, casings, and other enclosures of electric equipment) to its Willow Creek Mine (I.D. No. 42-02113) located in Carbon County, Utah. The petitioner proposes to use an alternative method of compliance to ground the portable diesel generator to a low ground field. The petitioner proposes to incorporate a ground fault system for the power circuits that would de-energize mining equipment such as continuous miners, roof bolters, and longwall equipment when being transported throughout the mine, if a phase to frame fault occurs. The petitioner asserts that the proposed alternative method would provide at least the same measure of protection as the existing standard.

19. Blue Mountain Energy, Inc.

[Docket No. M-2000-113-C]

Blue Mountain Energy, Inc., 3607 Co. Rd. 65, Rangely, Colorado 81648 has filed a petition to modify the application of 30 CFR 75.350 (air courses and belt haulage entries) to its Deserado Mine (I.D. No. 05-03505) located in Rio Blanco County, Colorado. The petitioner proposes to use air coursed through conveyor belt entries to ventilate working places. The petitioner proposes to install a carbon monoxide monitoring system as an early warning fire detection system in all belt entries used as intake air to a working place. The petitioner asserts that application of the existing standard would result in a diminution of safety to the miners and that the proposed alternative method would provide at least the same measure of protection as the existing standard.

20. San Juan Coal Company

[Docket No. M-2000-114-C]

San Juan Coal Company, San Juan Coal Company, P.O. Box 561, Waterflow, New Mexico 87421 has filed a petition to modify the application of 30 CFR 75.701 (grounding metallic frames, casings, and other enclosures of electric) to its San Juan South Mine (I.D. No. 29-02170) and San Juan Deep Mine (I.D. No. 29-02201) located in San Juan County, New Mexico. The petitioner proposes to use a portable diesel generator to move and operate electrically powered mobile equipment and pumps throughout the mine and to provide temporary power to mobile equipment and pumps when power centers are not readily available and where power centers cannot easily be installed without major construction work. The petitioner asserts that the proposed alternative method would provide at least the same measure of protection as the existing standard.

21. San Juan Coal Company

[Docket No. M-2000-115-C]

San Juan Coal Company, San Juan Coal Company, P.O. Box 561, Waterflow, New Mexico 87421 has filed a petition to modify the application of 30 CFR 75.901 (protection of low- and medium-voltage three-phase circuits used underground) to its San Juan South Mine (I.D. No. 29-02170) and San Juan Deep Mine (I.D. No. 29-02201) located in San Juan County, New Mexico. The petitioner proposes to use a portable diesel generator to move and operate electrically powered mobile equipment and pumps throughout the mine and to provide temporary power to mobile equipment and pumps when power centers are not readily available and where power centers cannot easily be installed without major construction work. The petitioner asserts that the proposed alternative method would provide at least the same measure of protection as the existing standard.

22. San Juan Coal Company

[Docket No. M-2000-116-C]

San Juan Coal Company, San Juan Coal Company, P.O. Box 561, Waterflow, New Mexico 87421 has filed a petition to modify the application of 30 CFR 75.1002 (location of trolley wires, trolley feeder wires, high-voltage cables and transformers) to its San Juan South Mine (I.D. No. 29-02170) and San Juan Deep Mine (I.D. No. 29-02201) located in San Juan County, New Mexico. The petitioner proposes to use high-voltage (4,160 volt) cables in/by the last open crosscut and within 150 feet of pillar workings. The petitioner proposes a number of safeguards and asserts that the proposed alternative method would provide at least the same measure of protection as the existing standard.

23. Genwal Resources, Inc.

[Docket No. M-2000-117-C]

Genwal Resources, Inc., P.O. Box 1420, Huntington, Utah 84528 has filed a petition to modify the application of 30 CFR 75.1002-1(a) (location of other electric equipment; requirements for permissibility) to its Crandall Canyon Mine (I.D. No. 42-01715) located in Emery County, Utah. The petitioner proposes to use the following nonpermissible low-voltage or battery powered electronic testing and diagnostic equipment inby the last open crosscut: lap top computers, oscilloscopes, vibration analysis machines, cable fault detectors, point temperature probes, infrared temperature devices and recorders, pressures and flow measurement devices, signal analyzer devices, ultrasonic thickness gauges, electronic component testers, electronic tachometers, and may use other testing and diagnostic equipment if approved by the District Office. The petitioner states that all other test and diagnostic equipment use in or inby the last open crosscut will be permissible. The petitioner asserts that the proposed alternative method would provide at least the same measure of protection as the existing standard.

24. West Ridge Resources, Inc.

[Docket No. M-2000-118-C]

West Ridge Resources, Inc., P.O. Box 1420, Huntington, Utah 84528 has filed a petition to modify the application of 30 CFR 75.1002-1(a) (location of other electric equipment; requirements for permissibility) to its West Ridge Mine (I.D. No. 42-02233) located in Carbon County, Utah. The petitioner proposes to use the following nonpermissible low-voltage or battery powered electronic testing and diagnostic equipment inby the last open crosscut: lap top computers, oscilloscopes, vibration analysis machines, cable fault detectors, point temperature probes, infrared temperature devices and recorders, pressures and flow measurement devices, signal analyzer devices, ultrasonic thickness gauges, electronic component testers, electronic tachometers, and may use other testing and diagnostic equipment if approved by the District Office. The petitioner states that all other test and diagnostic equipment use in or inby the last open crosscut will be permissible. The petitioner asserts that the proposed alternative method would provide at least the same measure of protection as the existing standard.

25. Plateau Mining Corporation

[Docket No. M-2000-119-C]

Plateau Mining Corporation, One Oxford Centre, 301 Grant Street, 20th Floor, Pittsburgh, Pennsylvania 15219-1410 has filed a petition to modify the application of 30 CFR 75.500(d) (permissible electric equipment) to its Willow Creek Mine (I.D. No. 42-02113) located in Carbon County, Utah. The petitioner proposes to use the following nonpermissible low-voltage or battery powered electronic testing and diagnostic equipment in its continuous miner development sections: lap top computers, oscilloscopes, vibration analysis machines, cable fault detectors, point temperature probes, infrared temperature devices, voltage, current and power measurement recorders, pressure and flow measurement devices, signal analyzer devices, ultrasonic thickness gauges, and electronic tachometers, and may use other testing and diagnostic equipment if approved by the District Office. The petitioner states that all other test and diagnostic equipment used inby the last open crosscut will be permissible. The petitioner asserts that application of the existing standard would result in a diminution of safety to the miners and that the petitioner asserts that the proposed alternative method would provide at least the same measure of protection as the existing standard.

26. Plateau Mining Corporation

[Docket No. M-2000-120-C]

Plateau Mining Corporation, One Oxford Centre, 301 Grant Street, 20th Floor, Pittsburgh, Pennsylvania 15219-1410 has filed a petition to modify the application of 30 CFR 75.1002-1(a) (location of other electric equipment; requirements for permissibility) to its Willow Creek Mine (I.D. No. 42-02113) located in Carbon County, Utah. The petitioner proposes to use the following nonpermissible low-voltage or battery powered testing and diagnostic equipment in its longwall section: lap top computers, oscilloscopes, vibration analysis machines, cable fault detectors, point temperature probes, infrared temperature devices, voltage, current and power measurement recorders, pressure and flow measurement devices, signal analyzer devices, ultrasonic thickness gauges, and electronic tachometers, and may use other testing and diagnostic equipment if approved by the District Office. The petitioner states that all other test and diagnostic equipment used within 150 feet of pillar workings will be permissible. The petitioner asserts that application of the existing standard would result in a diminution of safety to the miners and that the petitioner asserts that the proposed alternative method would provide at least the same measure of protection as the existing standard.

27. Marfork Coal Company, Inc.

[Docket No. M-2000-121-C]

Marfork Coal Company, Inc., P.O. Box 457, Whitesville, West Virginia 25209 has filed a petition to modify the application of 30 CFR 75.1002 (location of trolley wires, trolley feeder wires, high-voltage cables and transformers) to its Coon Cedar Grove Mine (I.D. No. 46-08837) located in Raleigh County, West Virginia. The petitioner proposes to use high-voltage (2,400 volt) cables to power longwall mining equipment. The petitioner asserts that the proposed alternative method would provide at least the same measure of protection as the existing standard.

28. Sierra Minerals Corporation

[Docket No. M-2000-007-M]

Sierra Minerals Corporation, 6164 S. Newport St., Suite 2000, Englewood, Colorado 80111 has filed a petition to modify the application of 30 CFR 57.17010 (electric lamps) to its Colorado Yule Marble, Yule Quarry Operation (I.D. No. 05-04438) located in Gunnison County, Colorado. The petitioner requests a modification of the existing standard to eliminate the use of cap lamps during daylight hours at its quarry operation. The petitioner states that: (i) There is natural lighting in all working areas of the quarry that provides illumination under all operating conditions; (ii) supplemental light stands are used in some areas and if power is lost to those lights there is more than sufficient natural light available for safe exit from the working areas; (iii) all escapeways are well lit with natural light during daylight hours; (iv) work in the quarry is done only during daylight hours and if work is extended into hours of darkness, at that time, all persons would use cap lamps. The petitioner asserts that the proposed alternative method would provide at least the same measure of protection as the existing standard.

29. Sierra Minerals Corporation

[Docket No. M-2000-008-M]

Sierra Minerals Corporation, 6164 S. Newport St., Suite 2000, Englewood, Colorado 80111 has filed a petition to modify the application of 30 CFR 57.15031 (location of self-rescue devices) to its Colorado Yule Marble, Yule Quarry Operation (I.D. No. 05-04438) located in Gunnison County, Colorado. The petitioner requests a modification of the existing standard to permit its quarry to be operated without the use of self-rescue devices by persons underground. The petitioner asserts that application of the existing standard would result in a diminution of safety to the miners and that an alternative method of achieving the result of the existing standard exists that would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before November 1, 2000. Copies of these petitions are available for inspection at that address.

Dated: September 25, 2000.
Carol J. Jones,
Director, Office of Standards,, Regulations, and Variances.

[FR Doc. 00-25110 Filed 9-29-00; 8:45 am]

BILLING CODE 4510-43-P